DEPARTMENT OF DEFENSE

Office of the Secretary

[Docket ID: DoD-2010-OS-0152]

Privacy Act of 1974; System of Records

AGENCY: Office of the Secretary of Defense, DoD.

ACTION: Notice to Alter a System of Records.

SUMMARY: The Office of the Secretary of Defense proposes to alter a system of records in its inventory of record systems subject to the Privacy Act of 1974 (5 U.S.C. 552a), as amended.

DATES: This proposed action would be effective without further notice on December 15, 2010 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington, DC 20301-1155, Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on November 2, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2010.
Morgan F. Park,
Alternate OSD Federal Register Liaison Officer, Department of Defense.

DPR 34 DoD

System name:

Defense Civilian Personnel Data System (April 21, 2006, 71 FR 20649).

System location:

Delete entry and replace with “Lockheed Martin Information Systems, 1401 Del Norte St., Denver, CO 80221; Testing and Operations, 1777 N.E. Loop 410, Suite 300, San Antonio, TX 78217.

A list of secondary (Component regional) locations may be obtained by written request to DoD Civilian Personnel Management Service (CPMS), 1400 Key Boulevard, Suite B200, Arlington, VA 22209-5144.”

Categories of individuals covered by the system:

Delete entry and replace with “Civilian employees and job applicants for civilian appropriated/non-appropriated fund (NAF), local nationals (LN), and National Guard (NG) civilian technician positions in the Department of Defense (DoD).”

Categories of records in the system:

Delete entry and replace with “Position authorization and control information; position descriptions and performance elements; personnel data and projected suspense information for personnel actions; pay, benefits, and entitlements data.

Historical information on employees, including job experience, education, training, and training transaction data; performance plans, interim appraisals, final appraisals, closeouts and ratings; professional accounting or other certifications or licenses; awards information and merit promotion information; separation and retirement data; civilian deployment information and adverse and disciplinary action data.

Personnel information including Social Security Number (SSN), employee number, emergency contact information, employee e-mail address, employee phone numbers to include home, work, pager, fax, and mobile; race and national origin; handicap code; and foreign language capability. In addition, transmits data and updates to Corporate Management Information System (CMIS) and Customer Support Unit (CSU).”

Authority for maintenance of the system:

Delete entry and replace with “5 U.S.C. 301, Department Regulations; 5 U.S.C. Chapter 11, Office of Personnel Management; 5 U.S.C. Chapter 13, Special Authority; 5 U.S.C. Chapter 29, Commissions, Oaths, Records, and Reports; 5 U.S.C. Chapter 31, Authority for Employment; 5 U.S.C. Chapter 33, Examination, Selection, and Placement; 5 U.S.C. Chapter 41, Training; 5 U.S.C. Chapter 43, Performance Appraisal; 5 U.S.C. Chapter 51, Classification; 5 U.S.C. Chapter 53, Pay Rates and Systems; 5 U.S.C. Chapter 55, Pay Administration; 5 U.S.C. Chapter 61, Hours of Work; 5 U.S.C. Chapter 63, Leave; 5 U.S.C. Chapter 72, Antidiscrimination; Right to Petition Congress; 5 U.S.C. Chapter 75, Adverse Actions; 5 U.S.C. Chapter 83, Retirement; 5 U.S.C. Chapter 99, Department of Defense National Security Personnel System; 5 U.S.C. 7201, Antidiscrimination Policy; minority recruitment program; 10 U.S.C. 136, Under Secretary of Defense for Personnel and Readiness; E. O. 9830, Amending the Civil Service Rules and Providing for Federal Personnel Administration, as amended; 29 CFR part 1614.601, EEO Group Statistics; and E. O. 9397 (SSN), as amended.”

* * * * *

Policies and practices for storing, retrieving, accessing, retaining, and disposing of records in the system:

Storage:

Delete entry and replace with “Electronic storage media.”

Retrievability:

Delete entry and replace with “Name and/or employee number.”

Safeguards:

Delete entry and replace with “Records are accessed and/or maintained in areas accessible only to authorized personnel who are properly screened, cleared, and trained. User names and passwords and/or Common Access Cards (CACs) are employed to ensure access is limited to authorized personnel only. Employees are able to access and view only their records and update certain personal information to them via user name and password. Security systems and/or security guards protect buildings where records are accessed or maintained. A risk assessment has been performed and will be made available on request.”

Retention and disposal:

Delete entry and replace with “Records are retained for 25 years after an individual separates from the government and then the records are purged.”

* * * * *

Record access procedures:

Delete entry and replace with “Individuals seeking access to information about themselves contained in this system should address written inquiries to the Office of the Secretary of Defense/Joint Staff Freedom of Information Act Requester Service Center, 1155 Defense Pentagon, Washington, DC 20301-1155.

Written requests should contain individual's name and Social Security Number (SSN).”

* * * * *

Record source categories:

Delete entry and replace with “Prospective employee generated resume, Standard Form 171, or Optional Form 612; employee or supervisor generated training requests; human resources generated records; employee generated data recorded as Self Certified; and other employee or supervisor generated records. Data is also received from various interfaces; Defense Manpower Data Center; Defense Civilian Payroll System; Joint Personnel Adjudication System; Air Force Manpower Interface; National Guard Bureau Military Data Upload; NAF Payroll; Resumix; and Training.”

* * * * *

DPR 34 DoD

System name:

Defense Civilian Personnel Data System.

System location:

Lockheed Martin Information Systems, 1401 Del Norte St., Denver, CO 80221; Testing and Operations, 1777 NE. Loop 410, Suite 300, San Antonio, TX 78217.

A list of secondary (Component regional) locations may be obtained by written request to DoD Civilian Personnel Management Service (CPMS), 1400 Key Boulevard, Suite B200, Arlington, VA 22209-5144.

Categories of individuals covered by the system:

Civilian employees and job applicants for civilian appropriated/non-appropriated fund (NAF), local nationals (LN), and National Guard (NG) civilian technician positions in the Department of Defense (DoD).

Categories of records in the system:

Position authorization and control information; position descriptions and performance elements; personnel data and projected suspense information for personnel actions; pay, benefits, and entitlements data.

Historical information on employees, including job experience, education, training, and training transaction data; performance plans, interim appraisals, final appraisals, closeouts and ratings; professional accounting or other certifications or licenses; awards information and merit promotion information; separation and retirement data; civilian deployment information and adverse and disciplinary action data.

Personnel information including Social Security Number (SSN), employee number, emergency contact information, employee email address, employee phone numbers to include home, work, pager, fax and mobile; race and national origin; handicap code; and foreign language capability. In addition, transmits data and updates to Corporate Management Information System (CMIS) and Customer Support Unit (CSU).

Authority for maintenance of the system:

5 U.S.C. 301, Department Regulations; 5 U.S.C. Chapter 11, Office of Personnel Management; 5 U.S.C. Chapter 13, Special Authority; 5 U.S.C. Chapter 29, Commissions, Oaths, Records, and Reports; 5 U.S.C. Chapter 31, Authority for Employment; 5 U.S.C. Chapter 33, Examination, Selection, and Placement; 5 U.S.C. Chapter 41, Training; 5 U.S.C. Chapter 43, Performance Appraisal; 5 U.S.C. Chapter 51, Classification; 5 U.S.C. Chapter 53, Pay Rates and Systems; 5 U.S.C. Chapter 55, Pay Administration; 5 U.S.C. Chapter 61, Hours of Work; 5 U.S.C. Chapter 63, Leave; 5 U.S.C. Chapter 72, Antidiscrimination; Right to Petition Congress; 5 U.S.C. Chapter 75, Adverse Actions; 5 U.S.C. Chapter 83, Retirement; 5 U.S.C. Chapter 99, Department of Defense National Security Personnel System; 5 U.S.C. 7201, Antidiscrimination Policy; minority recruitment program; 10 U.S.C. 136, Under Secretary of Defense for Personnel and Readiness; E. O. 9830, Amending the Civil Service Rules and Providing for Federal Personnel Administration, as amended; 29 CFR part 1614.601, EEO Group Statistics; and E. O. 9397 (SSN), as amended.

Purpose(s):

To establish a system of records to provide Human Resource information and system support for the DoD civilian workforce worldwide.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD 'Blanket Routine Uses' set forth at the beginning of Office of the Secretary of Defense's compilation of systems of records notices apply to this system.

Policies and practices for storing, retrieving, accessing, retaining, and disposing of records in the system:

Storage:

Electronic storage media.

Retrievability:

Name and/or Social Security Number (SSN).

Safeguards:

Records are accessed and/or maintained in areas accessible only to authorized personnel who are properly screened, cleared, and trained. User names and passwords and/or Common Access Cards (CACs) are employed to ensure access is limited to authorized personnel only. Employees are able to access and view only their records and update certain personal information to them via user name and password. Security systems and/or security guards protect buildings where records are accessed or maintained. A risk assessment has been performed and will be made available on request.

Retention and disposal:

Records are retained for 25 years after an individual separates from the government and then the records are purged.

System Managers and address:

Civilian Personnel Management Service, 1400 Key Boulevard, Suite B200, Arlington, VA 22209-5144.

Notification procedure:

Individuals seeking to determine whether information about themselves is contained in this system should address written inquiries to: Civilian Personnel Management Service, 1400 Key Boulevard, Suite B200, Arlington, VA 22209-5144.

Written requests should contain individual's name and Social Security Number (SSN).

Record access procedures:

Individuals seeking access to information about themselves contained in this system should address written inquiries to the Office of the Secretary of Defense/Joint Staff Freedom of Information Act Requester Service Center, 1155 Defense Pentagon, Washington, DC 20301-1155.

Written requests should contain the name and number of this system of records notice along with the individual's name and Social Security Number (SSN).

Contesting record procedures:

The Office of the Secretary of Defense rules for accessing records, for contesting contents and appealing initial agency determinations are contained in Office of the Secretary of Defense Administrative Instruction 81; 32 CFR part 311; or may be obtained from the system manager.

Record source categories:

Prospective employee generated resume, Standard Form 171, or Optional Form 612; employee or supervisor generated training requests; human resources generated records; employee generated data recorded as self certified; and other employee or supervisor generated records. Data is also received from various interfaces; Defense Manpower Data Center; Defense Civilian Payroll System; Joint Personnel Adjudication System; Air Force Manpower Interface; National Guard Bureau Military Data Upload; NAF Payroll; Resumix; and training.

Exemptions claimed for the system:

None.

[FR Doc. 2010-28755 Filed 11-12-10; 8:45 am]

BILLING CODE 5001-06-P